DEPARTMENT OF EDUCATION

[Docket ID ED-2023-FSA-0113]

Privacy Act of 1974; System of Records; Correction

AGENCY: Federal Student Aid, U.S. Department of Education.

ACTION: Notice of new system of records; correction.

SUMMARY: On June 29, 2023, the Department of Education (Department) published in the Federal Register a notice of a new system of records titled “FUTURE Act System (FAS)” (18-11-23). The Fostering Undergraduate Talent by Unlocking Resources for Education (FUTURE Act) amended the Internal Revenue Code (IRC) to authorize the U.S. Department of the Treasury, Internal Revenue Service (IRS), to disclose to the Department certain Federal tax information (FTI) of an individual, upon approval being provided by the individual to the Department, for the purpose of determining eligibility for, or repayment obligations under, Income-Driven Repayment (IDR) plans under title IV of the Higher Education Act of 1965, as amended (HEA), with respect to loans under part D of title IV of the HEA, and determining eligibility for, and amount of Federal student financial aid under, a program authorized under subpart 1 of part A, part C, or part D of title IV of the HEA. The Department and the IRS have entered into a computer matching agreement (CMA) pursuant to which the IRS will disclose FTI to the Department, to maintain and secure the FTI obtained in this system. We are correcting the comment due date and the effective date of the routine uses listed in the system of records notice. All other information in the system of records notice remains the same.

DATES: This correction is applicable July 11, 2023.

Deadline for Transmittal of Public Comments: We must receive your comments on or before July 30, 2023.

FOR FURTHER INFORMATION CONTACT: Pardu Ponnapalli, Technology Directorate, Federal Student Aid, U.S. Department of Education, Union Center Plaza, 830 First Street NE, Washington, DC 20202-5454. Telephone: (202) 377-4006. Email: Pardu.Ponnapalli@ed.gov.

If you are deaf, hard of hearing, or have a speech disability and wish to access telecommunications relay services, please dial 7-1-1.

SUPPLEMENTARY INFORMATION: On June 29, 2023, we published the notice of a new system of records notice in the Federal Register (88 FR 42220) with a comment due date of July 31, 2023. This notice of a new system of records also provided a July 31, 2023, effective date for the routine uses listed in the section titled “ROUTINE USES OF RECORDS MAINTAINED IN THE SYSTEM, INCLUDING CATEGORIES OF USERS AND PURPOSES OF SUCH USES.” We are correcting the notice to reflect the correct comment due date of July 30, 2023, and the correct effective date for the routine uses of July 30, 2023.

Other than correcting the comment due date and the effective date of the routine uses, all other information in the notice remain the same.

Corrections

In FR Doc. 2023-13980, appearing on page 42220 of the Federal Register of June 29, 2023 (88 FR 42220), we make the following corrections:

1. On page 42220, in the first column, in the DATES section, remove “July 31, 2023” as the date to submit comments on this new system of records and add, in its place, “July 30, 2023”.

2. On page 42220, in the first column, in the DATES section, remove “July 31, 2023” as the date the routine uses, listed in the section titled “ROUTINE USES OF RECORDS MAINTAINED IN THE SYSTEM, INCLUDING CATEGORIES OF USERS AND PURPOSES OF SUCH USES” will become effective and add, in its place, “July 30, 2023”.

Accessible Format: On request to the program contact person listed under FOR FURTHER INFORMATION CONTACT, individuals with disabilities can obtain this document and the NPRM in an accessible format. The Department will provide the requestor with an accessible format that may include Rich Text Format (RTF) or text format (TXT), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-14528 Filed 7-10-23; 8:45 am]

BILLING CODE 4000-01-P